DEPARTMENT OF TRANSPORTATION

Federal Aviation Administration

14 CFR Part 39

[Docket No. FAA-2015-0676; Directorate Identifier 2014-NM-164-AD]

RIN 2120-AA64

Airworthiness Directives; Bombardier, Inc. Airplanes

AGENCY: Federal Aviation Administration (FAA), DOT.

ACTION: Notice of proposed rulemaking (NPRM).

SUMMARY: We propose to adopt a new airworthiness directive (AD) for certain Bombardier, Inc. Model BD-700-1A10 and BD-700-1A11 airplanes. This proposed AD was prompted by a report of several events where pilots experienced difficulty in lateral control of the airplane after doing a climb through heavy rain conditions and a determination that the cause was water ingress in the aileron control pulley assembly. This proposed AD would require, for certain airplanes, inspecting for correct clearance and rework if necessary, and, for certain other airplanes, installing a cover for the aileron pulley assembly. We are proposing this AD to prevent water ingress in the aileron control pulley assembly, which could freeze in cold conditions and result in reduced control of the airplane.

DATES: We must receive comments on this proposed AD by May 14, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0676; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Fabio Buttitta, Aerospace Engineer, Airframe and Mechanical Systems Branch, ANE-171, FAA, New York Aircraft Certification Office (ACO), 1600 Stewart Avenue, Suite 410, Westbury, NY 11590; telephone 516-228-7303; fax 516-794-5531.

SUPPLEMENTARY INFORMATION:

Comments Invited

We invite you to send any written relevant data, views, or arguments about this proposed AD. Send your comments to an address listed under the ADDRESSES section. Include “Docket No. FAA-2015-0676; Directorate Identifier 2014-NM-164-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation (TCCA), which is the aviation authority for Canada, has issued Canadian Airworthiness Directive CF-2014-23, dated July 18, 2014 (referred to after this as the Mandatory Continuing Airworthiness Information, or “the MCAI”), to correct an unsafe condition for certain Bombardier, Inc. Model BD-700-1A10 and BD-700-1A11 airplanes. The MCAI states:

There have been several reports whereby pilots have experienced difficulty in lateral control following climb through heavy rain conditions. In each event, the pilots were able to overcome this difficulty without disconnecting the aileron control. An investigation has determined that the root cause of the restricted movement of the aileron was due to water ingress into the wing root aileron control pulley assembly through a gap on the wing-to-fuselage fairing resulting in freezing of the aileron control system.

If not corrected, this condition could result in reduced lateral control of the aeroplane.

This [Canadian] AD mandates [for certain airplanes] the incorporation of a cover for the aileron pulley assembly [and inspection and rework if necessary] to prevent water ingress in the aileron control pulley assembly [and for certain other airplanes, mandates an inspection and rework if necessary].

The inspection involves doing a general visual inspection for correct clearance. You may examine the MCAI in the AD docket on the Internet at http://www.regulations.gov by searching for and locating Docket No. FAA-2015-0676.

Related Service Information Under 1 CFR Part 51

Bombardier has issued the following service information:

• Service Bulletin 700-1A11-27-034, Revision 04, dated September 4, 2014;

• Service Bulletin 700-27-076, Revision 04, dated September 4, 2014;

• Service Bulletin 700-27-5004, Revision 04, dated September 4, 2014; and

• Service Bulletin 700-27-6004, Revision 04, dated September 4, 2014.

This service information describes procedures, for certain airplanes, for installing a cover for the No. 1 aileron pulley, including an inspection for correct clearance and rework, and for certain other airplanes, for an inspection for correct clearance and rework. The actions described in this service information are intended to correct the unsafe condition identified in the MCAI. This service information is reasonably available; see ADDRESSES for ways to access this service information.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 60 airplanes of U.S. registry.

We also estimate that it would take about 9 work-hours per product to comply with the basic requirements of this proposed AD. The average labor rate is $85 per work-hour. Based on these figures, we estimate the cost of this proposed AD on U.S. operators to be $45,900, or $765 per product.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2015-0676; Directorate Identifier 2014-NM-164-AD.

(a) Comments Due Date

We must receive comments by May 14, 2015.

(b) Affected ADs

None.

(c) Applicability

This AD applies to Bombardier, Inc. Model BD-700-1A10 and BD-700-1A11 airplanes, certificated in any category, having serial numbers 9002 through 9520 inclusive and 9998.

(d) Subject

Air Transport Association (ATA) of America Code 27, Flight Controls.

(e) Reason

This AD was prompted by a report of several events where pilots experienced difficulty in lateral control of the airplane after doing a climb through heavy rain conditions and a determination that the cause was water ingress in the aileron control pulley assembly. We are issuing this AD to prevent water ingress in the aileron control pulley assembly, which could freeze in cold conditions and result in reduced control of the airplane.

(f) Compliance

Comply with this AD within the compliance times specified, unless already done.

(g) Installation of Cover for the Aileron Pulley Assembly

Except as provided by paragraph (j) of this AD, for airplanes on which a cover for the No. 1 aileron pulley was not installed as of the effective date of this AD: Within 150 flight cycles after the effective date of this AD, install a cover for the No. 1 aileron pulley, including doing a general visual inspection for correct clearance and rework as applicable, in accordance with paragraph C., “PART B—Modification,” of the Accomplishment Instructions of the applicable service bulletins identified in paragraphs (g)(1) and (g)(2) for this AD.

(1) For Model BD-700-1A10 airplanes: Bombardier Service Bulletin 700-27-076, Revision 04, dated September 4, 2014; or 700-27-6004, Revision 04, dated September 4, 2014.

(2) For Model BD-700-1A11 airplanes: Bombardier Service Bulletin 700-1A11-27-034, Revision 04, dated September 4, 2014; or 700-27-5004, Revision 04, dated September 4, 2014.

(h) Inspection and Rework

Except as provided by paragraph (j) of this AD, for airplanes that have incorporated a cover for the No. 1 aileron pulley using the applicable service information identified in paragraphs (h)(1) and (h)(2) of this AD as of the effective date of this AD: Within 150 flight cycles after the effective date of this AD, do a general visual inspection for correct clearance and, before further flight, rework, as applicable, in accordance with paragraph B., “PART A—Inspection and Rework,” of the Accomplishment Instructions of the applicable service information identified in paragraphs (g)(1) and (g)(2) of this AD.

(1) For Model BD-700-1A10 airplanes: Bombardier Service Bulletin 700-27-076, dated March 5, 2012; or 700-27-6004, dated March 5, 2012.

(2) For Model BD-700-1A11 airplanes: Bombardier Service Bulletin 700-1A11-27-034, dated March 5, 2012; or 700-27-5004, dated March 5, 2012.

(i) Re-Identification of Overwing Panels

Except as provided by paragraph (j) of this AD, for airplanes on which the Service Non-Incorporated Engineering Orders (SNIEO) or Service Requests for Product Support Action (SRPSA) that are listed in table 2 of paragraph 1.A., “Effectivity,” in the service information identified in paragraphs (i)(1), (i)(2), or (i)(3) of this AD have been incorporated: Within 150 flight cycles from the effective date of this AD, do the re-identification of the overwing panels, in accordance with paragraph 2.B(2)(g) of the Accomplishment Instructions of the applicable service information identified in paragraphs (g)(1) and (g)(2) of this AD.

(1) Bombardier Service Bulletin 700-27-076, Revision 04, dated September 4, 2014.

(2) Bombardier Service Bulletin 700-27-6004, Revision 04, dated September 4, 2014.

(3) Bombardier Service Bulletin 700-1A11-27-034, Revision 04, dated September 4, 2014.

(j) Exception to the Requirements of Paragraphs (g), (h), and (i) of this AD

Airplanes on which the SRPSA, as listed in table 1 of paragraph 1.A., “Effectivity,” in the service information identified in paragraph (j)(1), (j)(2), or (j)(3) of this AD has been accomplished as of the effective date of this AD, meet the intent of paragraphs (g), (h), and (i) of this AD and no further action is required.

(1) Bombardier Service Bulletin 700-27-076, Revision 04, dated September 4, 2014.

(2) Bombardier Service Bulletin 700-27-6004, Revision 04, dated September 4, 2014.

(3) Bombardier Service Bulletin 700-1A11-27-034, Revision 04, dated September 4, 2014.

(k) Credit for Previous Actions

This paragraph provides credit for actions required by paragraphs (g), (h), and (i) of this AD, if those actions were performed before the effective date of this AD using the applicable service information identified in paragraphs (k)(1) through (k)(8) of this AD, which are not incorporated by reference in this AD.

(1) Bombardier Service Bulletin 700-1A11-27-034, Revision 01, dated July 16, 2012.

(2) Bombardier Service Bulletin 700-1A11-27-034, Revision 02, dated June 17, 2014.

(3) Bombardier Service Bulletin 700-27-076, Revision 01, dated July 16, 2012.

(4) Bombardier Service Bulletin 700-27-076, Revision 02, dated June 17, 2014.

(5) Bombardier Service Bulletin 700-27-5004, Revision 01, dated July 16, 2012.

(6) Bombardier Service Bulletin 700-27-5004, Revision 02, dated June 17, 2014.

(7) Bombardier Service Bulletin 700-27-6004, Revision 01, dated July 16, 2012.

(8) Bombardier Service Bulletin 700-27-6004, Revision 02, dated June 17, 2014.

(l) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, New York ACO, ANE-170, FAA; or Transport Canada Civil Aviation (TCCA); or Bombardier, Inc.'s TCCA Design Approval Organization (DAO). If approved by the DAO, the approval must include the DAO-authorized signature.

(m) Related Information

(1) Refer to Mandatory Continuing Airworthiness Information (MCAI) Canadian Airworthiness Directive CF-2014-23, dated July 18, 2014, for related information. This MCAI may be found in the AD docket on the Internet at http://www.regulations.gov by searching for and locating Docket No. FAA-2015-0676.

(2) For service information identified in this AD, contact Bombardier, Inc., 400 Côte Vertu Road West, Dorval, Québec H4S 1Y9, Canada; telephone 514-855-5000; fax 514-855-7401; email thd.crj@aero.bombardier.com; Internet http://www.bombardier.com. You may view this service information at the FAA, Transport Airplane Directorate, 1601 Lind Avenue SW., Renton, WA. For information on the availability of this material at the FAA, call 425-227-1221.

Issued in Renton, Washington, on March 19, 2015.
Michael Kaszyscki,
Acting Manager, Transport Airplane Directorate, Aircraft Certification Service.

[FR Doc. 2015-07072 Filed 3-27-15; 8:45 am]

BILLING CODE 4910-13-P